Proclamation 9794 of September 28, 2018

National Energy Awareness Month, 2018

By the President of the United States of America

A Proclamation

During National Energy Awareness Month, we recognize the remarkable role American energy plays in producing more abundant, affordable, and reliable power for our Nation and the world. My Administration is reducing regulatory burdens on the energy sector, developing innovative energy technologies, and building new energy-related infrastructure. Our agenda is fueling tremendous economic growth and forging a more secure future for our country and our allies.

The American energy renaissance is pressing forward with stunning speed. The United States is becoming both energy independent and energy dominant because of the entrepreneurial spirit of the American people and the application of innovative technologies to energy production, transmission, distribution, and use. Recently, United States crude oil production rose to roughly 11 million barrels a day, making our Nation the largest global producer. Additionally, the United States is the world's largest producer of natural gas, and, in 2017, our coal exports rose by roughly 60 percent over the previous year. American energy dominance means the end of our crippling dependence on foreign energy, and that our industries have access to reliable, affordable, and diverse energy supplies that enable them to compete in the global marketplace. Increasing energy security is also ushering in a new era of American leadership around the world as we export more of our energy bounty to friends and allies abroad, freeing them from hostile dependence.

Our Nation's increasingly innovative energy industry is proving that we can be responsible stewards of the environment while developing energy resources to grow the economy, lower costs, ignite job creation, and drive up incomes for American workers. From 2005 to 2017, the United States led the world in cutting energy-related carbon dioxide emissions, reducing them by about 860 million metric tons. Between 1970 and 2017, combined emissions from the six common pollutants dropped by 73 percent, all while our economy continued to grow. We are leading the world in the development of the next generation of energy technologies that will convert our abundant and diverse domestic energy resources, including coal, natural gas, nuclear, and renewables, into the useful energy services that power our economy. America's innovative minds and industrial might, not the mandates of international agreements, have made our Nation the world leader in producing energy more abundantly while simultaneously reducing emissions.

America's future has never been brighter, and American energy is leading the way in providing jobs, opportunity, and security for our Nation. This month, we recommit to strengthening our energy security and to responsibly using our energy resources so that we can continue on our path towards energy independence and dominance.

NOW, THEREFORE, I, DONALD J. TRUMP, President of the United States of America, by virtue of the authority vested in me by the Constitution and the laws of the United States, do hereby proclaim October 2018 as National Energy Awareness Month.

IN WITNESS WHEREOF, I have hereunto set my hand this twenty-eighth day of September, in the year of our Lord two thousand eighteen, and of the Independence of the United States of America the two hundred and forty-third.

[FR Doc. 2018-21816

Filed 10-3-18; 11:15 am]

Billing code 3295-F9-P